DEPARTMENT OF HEALTH AND HUMAN SERVICES

Guidance for Temporary Reassignment of State and Local Personnel During a Public Health Emergency

AGENCY: Department of Health and Human Services, Office of the Secretary.

ACTION: Notice of availability and request for comments.

SUMMARY: The Department of Health and Human Services (HHS) is accepting comments on proposed “Guidance for Temporary Reassignment of State and Local Personnel during a Public Health Emergency.” Section 201 of the Pandemic and All-Hazards Preparedness Reauthorization Act of 2013 (PAHPRA), Public Law 113-5, amends section 319 of the Public Health Service (PHS) Act to provide the Secretary of HHS with discretion to authorize the temporary reassignment of state, tribal, and local personnel during a declared Federal public health emergency upon request by a state or tribal organization or their designee. This proposed guidance addresses that provision.

DATES: Public comments will be accepted for sixty days from the date this notice publishes in the Federal Register.

ADDRESSES: The guidance is available online at www.phe.gov/section201. Comments may be submitted via a form on that Web site. This document is also available in hard-copy for all those that request it from the point of contact listed in the “Additional Information” section below.

FOR FURTHER INFORMATION CONTACT: For additional information, please contact: Lisa Kaplowitz, MD, MSHA, Deputy Assistant Secretary, Office of Policy and Planning, Office of the Assistant Secretary for Preparedness and Response, 200 Independence Avenue SW., Washington, DC 20201, telephone number (202) 205-2882.

SUPPLEMENTARY INFORMATION: Section 201 of the Pandemic and All-Hazards Preparedness Reauthorization Act of 2013 (PAHPRA), Public Law 113-5, amends section 319 of the PHS Act to provide the Secretary of HHS with discretion to authorize the temporary reassignment of state, tribal, and local personnel during a declared Federal public health emergency upon request by a state governor or tribal organization or their designee. PAHPRA requires that HHS issue proposed guidance on this provision, to be followed by a 60-day public comment period.

The temporary reassignment provision is applicable to state, tribal, and local public health department or agency personnel whose positions are funded, in full or part, under PHS programs. This authority terminates on September 30, 2018.

This new provision provides an important flexibility to state and local health departments and tribal organizations during an event requiring all the resources at their disposal. The temporary reassignment provision permits state, tribal, and local personnel to be voluntarily reassigned so they can immediately respond to the public health emergency in the affected jurisdiction.

Statutory Authority: Section 201 of the Pandemic and All-Hazards Preparedness Reauthorization Act of 2013 (PAHPRA), Public Law 113-5

Dated: September 23, 2013.
Kathleen Sebelius,
Secretary.

[FR Doc. 2013-23834 Filed 9-30-13; 8:45 am]

BILLING CODE 4150-37-P